NATIONAL FOUNDATION ON THE ARTS AND THE HUMANITIES

Institute of Museum and Library Services

Submission for OMB Review, Comment Request, Proposed Collection: Improving Customer Experience (OMB Circular A-11, Section 280 Implementation)

AGENCY: Institute of Museum and Library Services, National Foundation on the Arts and the Humanities.

ACTION: Submission for OMB Review, request for comments, collection of information.

SUMMARY: The Institute of Museum and Library Services (IMLS) as part of its continuing effort to reduce paperwork and respondent burden, is announcing an opportunity for public comment on the renewal of a proposed collection of information by the Agency. Under the Paperwork Reduction Act of 1995 (PRA), Federal Agencies are required to publish notice in the Federal Register concerning each proposed collection of information, and to allow 60 days for public comment in response to the notice. This Notice solicits comments on a renewal of a collection to gather customer and stakeholder feedback via customer interviews, feedback surveys, and rapid feedback user testing of website experiences to improve customer experience with IMLS services of various kinds. For more information on the types of proposed information collection requests IMLS may make under this clearance, contact the individual listed below in the FOR FURTHER INFORMATION CONTACT section of this Notice.

DATES: Written comments must be submitted to the office listed in the ADDRESSES section below on or before October 4, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Requests for additional information should be directed to Todd Rubin, Office of Management and Budget, 725 17th St. NW, Washington, DC 20006, 202-881-6991, via email to todd.w.rubin2@omb.eop.gov.

SUPPLEMENTARY INFORMATION: The Institute of Museum and Library Services is the primary source of federal support for the nation's libraries and museums. We advance, support, and empower America's museums, libraries, and related organizations through grant making, research, and policy development. To learn more, visit www.imls.gov.

Current Actions: IMLS is requesting renewal of an existing collection to gather customer feedback and improve customer experience in alignment with OMB Circular A-11 Section 280. OMB Circular A-11 Section 280 established government-wide standards for mature customer experience organizations in government and measurement. To enable Federal programs to deliver the experience taxpayers deserve, they must undertake three general categories of activities: conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. IMLS will limit its inquiries to data collections that solicit strictly voluntary opinions or responses. Steps will be taken to ensure anonymity of respondents in each activity covered by this request.

The results of the data collected will be used to improve the delivery of Federal services and programs. It will include the creation of personas, customer journey maps, and reports and summaries of customer feedback data and user insights. It will also provide government-wide data on customer experience that can be displayed on performance.gov to help build transparency and accountability of Federal programs to the customers they serve.

The 60-day Notice was published in the Federal Register on May 22, 2024 (89 FR 45030) (Document Number: 2024-11235). The agency received no comments in response to this Notice.

Agency: Institute of Museum and Library Services.

Title: Improving Customer Experience (OMB Circular A-11, Section 280 Implementation).

OMB Control Number: 3137-0130.

Agency Number: 3137.

Respondents/Affected Public: Museum staff, library staff, IMLS applicants.

Total Number of Respondents: 2,001,550.

Frequency of Response: Once per respondent per request.

Average/Hours per Response: Varied, dependent upon the data collection method used. The possible response time to complete a questionnaire or survey may be 3 minutes or up to 2 hours to participate in an interview.

Total Estimated Annual Burden Hours: 101,125.

Total Annual Cost Burden: $3,040,852.50.

Dated: August 30, 2024.
Suzanne Mbollo,
Grants Management Specialist, Institute of Museum and Library Services.

[FR Doc. 2024-19934 Filed 9-4-24; 8:45 am]

BILLING CODE 7036-01-P